DEPARTMENT OF JUSTICE

Notice of Lodging of Proposed Consent Decree Under the Comprehensive Environmental Response, Compensation, and Liability Act (“CERCLA”)

On January 16, 2025, the Department of Justice lodged a proposed Consent Decree with the United States District Court for the District of Massachusetts in the lawsuit entitled United States v. Aerosols Danville, Inc., et al., Civil Action No. 25-10115 (D. Mass.).

The proposed Consent Decree would resolve the affirmative claims of the United States, on behalf of the United States Department of the Interior (“DOI”), in United States v. Aerosols Danville, Inc., et al., Civil Action No. No. 25-10115 (D. Mass.) against Aerosols Danville, Inc., f/k/a KIK Custom Products, Inc.; Avnet, Inc.; Bank of America, N.A., Trustee u/w of Lloyd G. Balfour; BASF Catalysts LLC; Chevron Environmental Management Company, for itself and as Attorney-in-Fact for Kewanee Industries, Inc.; City of Attleboro, Massachusetts; ConocoPhillips Company; Handy & Harman; International Paper Company; Swank Holdings, Inc.; Teknor Apex Company; Texas Instruments Incorporated; Waste Management of Massachusetts, Inc.; and Town of Norton, Massachusetts (collectively referred to as “Defendants” herein). In that lawsuit, the United States, under section 107(a) of the Comprehensive Environmental Response, Compensation, and Liability Act of 1980, as amended (“CERCLA”), 42 U.S.C. 9607(a), seeks damages for injuries to natural resources and recovery of assessment costs incurred by DOI in connection with the Shpack Landfill Site located in the City of Attleboro, Massachusetts and the Town of Norton, Massachusetts. The proposed Consent Decree would also resolve the related claims of the Commonwealth of Massachusetts against Defendants and the United States, on behalf of the United States Department of Energy, in the lawsuit entitled Massachusetts v. Aerosols Danville, Inc., et al., Civil Action No. 25-10118 (D. Mass).

Under the proposed Consent Decree, Defendants and the United States, on behalf of the Department of Energy, will pay a combined $2,100,000, which will go towards natural resource restoration efforts and assessment costs incurred by DOI and the Commonwealth. In exchange, Defendants and the United States, on behalf of the Department of Energy, will receive covenants not to sue under sections 107 of CERCLA, 42 U.S.C. 9607, and contribution protection under section 113 of CERCLA, 42 U.S.C. 9613. In addition, Defendants will receive a covenant from the Commonwealth not to sue under the Massachusetts Oil and Hazardous Material Release Prevention and Response Act, Mass. Gen Laws ch. 21E, sections 1-22, or any other statutory law, or any common law.

The publication of this notice opens a period for public comment on the proposed Consent Decree. Comments should be addressed to the Assistant Attorney General, Environment and Natural Resources Division, Environmental Enforcement Section, and should refer to United States v. Aerosols Danville, Inc., et al., Civil Action No. No. 25-10115 (D. Mass.), D.J. Ref. Nos. 90-11-2-08360/4 and 90-11-6-21155. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the consent decree may be examined and downloaded at this Justice Department website: https://www.justice.gov/enrd/consent-decrees. If you require assistance accessing the consent decree, you may request assistance by email or by mail to the addresses provided above for submitting comments.

Eric D. Albert,
Assistant Section Chief, Environmental Enforcement Section, Environment and Natural Resources Division.

[FR Doc. 2025-01543 Filed 1-22-25; 8:45 am]

BILLING CODE 4410-15-P